ENVIRONMENTAL PROTECTION AGENCY

40 CFR Part 271

[FRL-7201-1]

Delaware: Final Authorization of State Hazardous Waste Management Program Revision

AGENCY: Environmental Protection Agency (EPA).

ACTION: Withdrawal of Immediate Final Rule.

SUMMARY: EPA is withdrawing the immediate final rule for Delaware: Final Authorization of State Hazardous Waste Management Program Revision published on February 27, 2002, which authorized changes to Delaware's hazardous waste program under the Resource Conservation and Recovery Act (RCRA). EPA stated in the immediate final rule that if EPA received written comments that oppose this authorization during the comment period, EPA would publish a timely notice of withdrawal in the Federal Register. Since EPA did receive comments that oppose this authorization, EPA is withdrawing the immediate final rule. EPA will address these comments in a subsequent final action based on the proposed rule also published on February 27, 2002, at 67 FR 8925.

DATES: As of April 25, 2002, EPA withdraws the immediate final rule published on February 27, 2002, at 67 FR 8900.

FOR FURTHER INFORMATION CONTACT: Lillie Ellerbe, Mailcode 3WC21, RCRA State Programs Branch, U.S. EPA Region III, 1650 Arch Street, Philadelphia, PA 19103-2029, Phone number: (215) 814-5454.

SUPPLEMENTARY INFORMATION: Because EPA received written comments that oppose this authorization, EPA is withdrawing the immediate final rule for Delaware: Final Authorization of State Hazardous Waste Management Program Revision published on February 27, 2002, at 67 FR 8900, which authorized changes to Delaware's hazardous waste rules. EPA stated in the immediate final rule that if EPA received written comments that oppose this authorization during the comment period, EPA would publish a timely notice of withdrawal in the Federal Register. Since EPA received comments that oppose this action, today EPA is withdrawing the immediate final rule. EPA will address the comments received during the comment period in a subsequent final action based on the proposed rule also published on February 27, 2002. EPA will not provide for additional public comment during the final action.

Dated: April 18, 2002.
James W. Newsom,
Acting Regional Administrator, EPA Region III.

[FR Doc. 02-10169 Filed 4-24-02; 8:45 am]

BILLING CODE 6560-50-P